DEPARTMENT OF LABOR

Employment and Training Administration

[NAFTA-4707]

General Automotive Manufacturing, LLC Franklin, Wisconsin; Notice of Termination of Investigation

Pursuant to Title V of the North American Free Trade Agreement Implementation Act (Public Law 103-182) concerning transitional adjustment assistance, hereinafter called NAFTA-TAA and in accordance with Section 250(a), Subchapter D, Chapter 2, Title II, of the Trade Act of 1974, as amended (19 U.S.C. 2331), an investigation was initiated on March 30, 2001, in response to a worker petition which was filed on behalf of workers at General Automotive Manufacturing, LLC, Franklin, Wisconsin.

The petitioner has requested that he petition be withdrawn. Consequently further investigation in this case would serve no purpose, and the investigation has been terminated.

Signed in Washington, DC, this 13th day of June, 2001.
Linda G. Poole,
Certifying Officer, Division of Trade Adjustment Assistance.

[FR Doc. 01-16160 Filed 6-26-01; 8:45 am]

BILLING CODE 4510-30-M